DEPARTMENT OF AGRICULTURE

Forest Service

Red Rock Ranger District, Coconino National Forest, AZ

AGENCY: Forest Service, USDA.

ACTION: Cancellation notice.

SUMMARY: On January 26, 2007, a Notice of Intent (NOI) to prepare an environmental impact statement for an Outfitter and Guide Management Plan on the Red Rock Ranger District was published in the Federal Register (71 FR 4346-4348). The 2006 NOI is hereby rescinded.

FOR FURTHER INFORMATION CONTACT: Sandra Nagiller, NEPA Coordinator, Coconino National Forest, 1824 S. Thompson St., Flagstaff, AZ, 86001, telephone (928) 527-3413.

SUPPLEMENTARY INFORMATION: The Red Rock Ranger district is currently completing an assessment of the special use program. This assessment will be used in the future development of a new proposed action for management of outfitter and guide permits.

Dated: April 30, 2007.
Joseph P. Stringer,
Deputy Forest Supervisor.

[FR Doc. 07-2282 Filed 5-8-07; 8:45 am]

BILLING CODE 3410-11-M